DEPARTMENT OF TRANSPORTATION

Federal Aviation Administration

14 CFR Part 39

[Docket No. FAA-2017-0490; Product Identifier 2017-NE-13-AD; Amendment 39-19082; AD 2017-22-02]

RIN 2120-AA64

Airworthiness Directives; IPECO Pilot and Co-Pilot Seats

AGENCY: Federal Aviation Administration (FAA), DOT.

ACTION: Final rule.

SUMMARY: We are adopting a new airworthiness directive (AD) for certain Ipeco Holdings Ltd. (Ipeco) pilot and co-pilot seats. This AD requires modification and reidentification of the affected seats. This AD was prompted by reports of unexpected movement of pilot and co-pilot seats on takeoff and landing. We are issuing this AD to address the unsafe condition on these products.

DATES: This AD becomes effective December 12, 2017.

The Director of the Federal Register approved the incorporation by reference of a certain publication listed in this AD as of December 12, 2017.

ADDRESSES: For service information identified in this final rule, contact Ipeco Holdings Ltd., Aviation Way, Southend on Sea, SS2 6UN, United Kingdom; phone: 44 1702 549371; fax: 44 1702 540782; email: sales@Ipeco.com. You may view this service information at the FAA, Engine and Propeller Standards Branch, 1200 District Avenue, Burlington, MA. For information on the availability of this material at the FAA, call 781-238-7125. It is also available on the Internet at http://www.regulations.gov by searching for and locating Docket No. FAA-2017-0490.

Examining the AD Docket

You may examine the AD docket on the Internet at http://www.regulations.gov by searching for and locating Docket No. FAA-2017-0490; or in person at the Docket Management Facility between 9 a.m. and 5 p.m., Monday through Friday, except Federal holidays. The AD docket contains this AD, the mandatory continuing airworthiness information (MCAI), the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Neil Doh, Aerospace Engineer, Boston ACO Branch, FAA, 1200 District Avenue, Burlington, MA 01803; phone: 781-238-7757; fax: 781-238-7199; email: neil.doh@faa.gov.

SUPPLEMENTARY INFORMATION:

Discussion

We issued a notice of proposed rulemaking (NPRM) to amend 14 CFR part 39 by adding an AD that would apply to the specified products. The NPRM was published in the Federal Register on June 16, 2017 (82 FR 27629). The NPRM proposed to correct an unsafe condition for the specified products. The MCAI states:

Occurrences have been reported of pilot/co-pilot unexpected rearward movement during take-off and landing. Investigations determined that horizontal guide block wear, presence of burrs on horizontal centre track, and horizontal track lock system weakness (spring tension too low) were various causes which contributed to the seat not being correctly locked.

This condition, if not corrected, could lead to further cases of unwanted flight crew seat movement, possibly resulting in reduced control of the aeroplane.

You may obtain further information by examining the MCAI in the AD docket on the Internet at http://www.regulations.gov by searching for and locating Docket No. FAA-2017-0490.

Comments

We gave the public the opportunity to participate in developing this final rule. The following presents the comments received on the NPRM and the FAA's response to each comment.

Request To Shorten Compliance Time

The Air Line Pilots Association (ALPA) requested that the FAA work with EASA to reevaluate the compliance time for this AD. ALPA indicated that the requirements of this AD could be accomplished in a shorter timeframe that would enhance safety.

ALPA did not provide data or a detailed explanation with respect to its request for a shorter time frame. Consequently, upon further review of the risk analysis with EASA, we determined the proposed time frame for accomplishment of this AD is appropriate.

Miscellaneous Comments

We received miscellaneous comments not relevant to this AD. No further response is required.

Conclusion

We reviewed the available data, including the comments received, and determined that air safety and the public interest require adopting this AD as proposed.

Related Service Information Under 1 CFR Part 51

Ipeco has issued Service Bulletin (SB) Number 063-25-08, Revision 00; SB Number 063-25-09, Revision 00; and SB Number 063-25-10, Revision 00; all dated May 31, 2016. These SBs provide instructions, differentiated by the part numbers of the affected pilot and co-pilot seats, for the modification and reidentification of these seats. This service information is reasonably available because the interested parties have access to it through their normal course of business or by the means identified in the ADDRESSES section.

Costs of Compliance

We estimate that this AD affects an unknown number of pilot and co-pilot seats installed on 55 airplanes of U.S. registry.

We estimate the following costs to comply with this AD:

Estimated Costs
Action | Labor cost | Parts cost | Cost per product | Cost on U.S. operators
Modify crew seats | 2 work-hours × $85 per hour = $170 | $125 | $295 | $16,225

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-22-02 Ipeco Holdings Ltd.: Amendment 39-19082; Docket No. FAA-2017-0490; Product Identifier 2017-NE-13-AD.

(a) Effective Date

This AD becomes effective December 12, 2017.

(b) Affected ADs

None.

(c) Applicability

(1) This AD applies to Ipeco Holdings Ltd. (Ipeco) pilot and co-pilot seats with a part number listed in the Planning Information section of Ipeco Service Bulletins (SBs) Number 063-25-08, Revision 00; Number 063-25-09, Revision 00; and Number 063-25-10, Revision 00; all dated May 31, 2016.

(2) These seats are installed on, but not limited to, ATR-GIE Avions de Transport Regional ATR 42 and ATR 72 airplanes.

(d) Subject

Joint Aircraft System Component (JASC) Code 2510, Flight Compartment Equipment.

(e) Reason

This AD was prompted by reports of unexpected movement of pilot and co-pilot seats on takeoff and landing. We are issuing this AD to prevent unexpected movement of pilot and co-pilot seats on takeoff and landing. The unsafe condition, if not corrected, could result in reduced control of the airplane.

(f) Compliance

(1) Comply with this AD within the compliance times specified, unless already done.

(2) Within 2 years after the effective date of this AD, modify and re-identify affected each pilot and co-pilot seat. Use the Accomplishment Instructions of Ipeco SB Number 063-25-08, Revision 00; Ipeco SB 063-25-09, Revision 00; or Ipeco SB 063-25-10, Revision 00; all dated May 31, 2016; as appropriate, to do the modification and reidentification.

(g) Installation Prohibition

Do not install any pilot or co-pilot seat identified in paragraph (c) of this AD unless the seat is modified and reidentified as specified in paragraph (f)(2) of this AD.

(h) Alternative Methods of Compliance (AMOCs)

(1) The Manager, Boston ACO Branch, FAA, has the authority to approve AMOCs for this AD, if requested using the procedures found in 14 CFR 39.19. In accordance with 14 CFR 39.19, send your request to your principal inspector or local Flight Standards District Office, as appropriate. If sending information directly to the manager of the Boston ACO Branch, send it to the attention of the person identified in paragraph (i) of this AD.

(2) Before using any approved AMOC, notify your appropriate principal inspector, or lacking a principal inspector, the manager of the local flight standards district office/certificate holding district office.

(i) Related Information

(1) For more information about this AD, contact Neil Doh, Aerospace Engineer, Boston ACO Branch, FAA, 1200 District Avenue, Burlington, MA 01803; phone: 781-238-7757; fax: 781-238-7199; email: neil.doh@faa.gov.

(2) Refer to MCAI European Aviation Safety Agency AD 2016-0256, dated December 16, 2016, for more information. You may examine the MCAI in the AD docket on the Internet at http://www.regulations.gov by searching for and locating it in Docket No. FAA-2017-0490.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Ipeco Service Bulletin (SB) Number 063-25-08, Revision 00; dated May 31, 2016.

(ii) Ipeco SB Number 063-25-09, Revision 00; dated May 31, 2016.

(iii) Ipeco SB Number 063-25-10, Revision 00; dated May 31, 2016.

(3) For Ipeco service information identified in this AD, contact Ipeco Holdings Ltd., Aviation Way, Southend on Sea, SS2 6UN, United Kingdom; phone: 44 1702 549371; fax: 44 1702 540782; email: sales@Ipeco.com.

(4) You may view this service information at FAA, Engine and Propeller Standards Branch, Policy and Innovation Division, 1200 District Avenue, Burlington, MA. For information on the availability of this material at the FAA, call 781-238-7125.

(5) You may view this service information that is incorporated by reference at the National Archives and Records Administration (NARA). For information on the availability of this material at NARA, call 202-741-6030, or go to: http://www.archives.gov/federal-register/cfr/ibr-locations.html.

Issued in Burlington, Massachusetts, on October 19, 2017.
Karen M. Grant,
Acting Manager, Engine and Propeller Standards Branch, Aircraft Certification Service.

[FR Doc. 2017-24127 Filed 11-6-17; 8:45 am]

BILLING CODE 4910-13-P